DEPARTMENT OF TRANSPORTATION

Federal Aviation Administration

14 CFR Part 71

[Docket No. FAA-2007-28298; Airspace Docket No. 07-ASO-10]

Amendment of Class D Airspace; Valdosta, Moody AFB, GA

AGENCY: Federal Aviation Administration (FAA), DOT.

ACTION: Final rule.

SUMMARY: This action amends Class D airspace at Valdosta, Moody AFB, GA. The Air Education Training Command (AETC) T-6 mission at Moody AFB has been eliminated. Therefore, the requirement for a 7-mile radius of Moody AFB is no longer required. The Moody AFB Class D airspace is amended to airspace upward from the surface up to and including 2,700 MSL within a 5-mile radius of the airport.

DATES: Effective Date: 0901 UTC, August 30, 2007. The Director of the Federal Register approves this incorporation by reference action under title 1, Code of Federal Regulations, part 51, subject to the annual revision of FAA Order 7400.9 and publication of conforming amendments.

FOR FURTHER INFORMATION CONTACT: Mark D. Ward, Group Manager, System Support, Eastern Service Center, Federal Aviation Administration, P.O. Box 20636, Atlanta, Georgia 30320; telephone (404) 305-5581.

SUPPLEMENTARY INFORMATION:

History

In July 2001, the Moody AFB Class D airspace was expanded from a 5-mile radius to a 7-mile radius of the airport to support the Air Education Training Command (AETC) T-6 mission at Moody AFB to protect the longer and wider patterns required for this training mission. The Base Realignment and Closure (BRAC) Commission actions in 2005 has now eliminated the T-6 mission at Moody AFB. The 7-mile radius Class D airspace area is no longer required. On May 29, 2007, the U.S. Air Force requested the Valdosta Moody AFB, GA, Class D airspace to be reduced in size to a 5-mile radius of the airport. This rule becomes effective on the date specified in the “Effective Date” section. Since this action eliminates the impact of controlled airspace on users of airspace in the vicinity of Valdosta, Moody AFB, GA, notice and public procedure under 5 U.S.C. 553(b) are not necessary. Designations for Class D airspace areas extending upward from the surface of the earth are published in paragraph 5000 of FAA Order 7400.9P, dated September 01, 2006, and effective September 15, 2006, which is incorporated by reference in 14 CFR 71.1. The Class D airspace designations listed in this document will be published subsequently in the Order.

The Rule

This amendment to Part 71 of the Federal Aviation Regulations (14 CFR Part 71) amends Class D airspace at Valdosta, Moody AFB, GA.

The FAA has determined that this regulation only involves an established body of technical regulations for which frequent and routine amendments are necessary to keep them operationally current. It, therefore, (1) is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule will not have a significant economic impact on a substantial number of small entities under the criteria of the Regulatory Flexibility Act.

List of Subjects in 14 CFR Part 71

Airspace, Incorporation by Reference, Navigation (air).

Adoption of the Amendment

In consideration of the foregoing, the Federal Aviation Administration amends 14 CFR Part 71 as follows:

PART 71—DESIGNATION OF CLASS A, CLASS B, CLASS C, CLASS D AND CLASS E AIRSPACE AREAS; AIRWAYS; ROUTES; AND REPORTING POINTS

1. The authority citation for 14 CFR Part 71 continues to read as follows:

Authority: 49 U.S.C. 106(g); 40103, 40113, 40120; EO 10854, 24 FR 9565, 3 CFR, 1959-1963 Comp., p. 389; 14 CFR 11.69.

§ 71.1 [Amended]

2. The incorporation by reference in 14 CFR 71.1 of Federal Aviation Administration Order 7400.9P, Airspace Designations and Reporting Points, dated September 1, 2006, and effective September 15, 2006, is amended as follows:

Paragraph 5000 Class D Airspace.

* * * * *

ASO GA D Valdosta Moody AFB, GA [REVISED]

Valdosta, Moody AFB, GA

(Lat. 30°58′04″ N, long. 83°11′35″ W)

That airspace extending upward from the surface, to and including 2,700 feet MSL, within a 5-mile radius of Moody AFB. This Class D airspace area is effective during the specific days and times established in advance by a Notice to Airmen. The effective days and times will thereafter be continuously published in the Airport/Facility Directory.

* * * * *

Issued in College Park, Georgia, on June 1, 2007.
Barry A. Knight,
Acting Group Manager, System Support Group Eastern Service Center.

[FR Doc. 07-3129 Filed 6-27-07; 8:45 am]

BILLING CODE 4910-13-M